DEPARTMENT OF EDUCATION

Notice of Opportunity for Public Comment and Recommendations for Finalizing the National Assessment of Educational Progress (NAEP) Achievement Levels Descriptions

AGENCY: U.S. Department of Education, National Assessment Governing Board.

ACTION: Notice of opportunity for public comment and recommendations for finalizing the National Assessment of Educational Progress (NAEP) Achievement Levels Descriptions.

SUMMARY: The National Assessment Governing Board is soliciting public comment for guidance in finalizing the Achievement Levels Descriptions (ALDs) for the NAEP 2014 Technology and Engineering Literacy (TEL) at Grade 8. More information on the Governing Board's work is at www.nagb.gov/.

Background

Under Public Law 107-279, the National Assessment Governing Board (NAGB) is authorized to formulate policy guidelines for NAEP. The legislation specifies that the Governing Board is to develop appropriate student achievement levels for each subject and grade tested, as provided in section 303(e). Such levels are determined by identifying the knowledge that can be measured and verified objectively using widely accepted professional assessment standards; and developing achievement levels that are consistent with relevant widely accepted professional assessment standards and based on the appropriate level of subject matter knowledge for grade levels to be assessed, or the age of the students, as the case may be.

The NAEP TEL assessment was administered for the first time in 2014 to a nationally representative sample of over 22,000 grade 8 students (see http://nces.ed.gov/nationsreportcard/tel/. The ALDs illustrate what students should know and be able to do at each achievement level—Basic, Proficient, and Advanced—in Technology and Engineering Literacy in order to demonstrate student performance on the NAEP assessment. It is anticipated that the finalized achievement levels descriptions will be presented for approval at the Governing Board meeting on July 31-August 2, 2014.

Public and private parties and organizations are invited to provide written comments and recommendations. Voluntary participation by all interested parties is urged. This notice sets forth the review schedule, identifies the kind of information that the Governing Board is required to verify regarding achievement levels, and provides information for accessing additional materials that will be useful for this review.

Resources for Public Comment

(1) Policy Definitions: The Governing Board adopted policy definitions of student performance that identify in very general terms what is meant by Basic, Proficient, and Advanced achievement levels. These policy definitions apply for any subject and grade assessed in NAEP, and they are used for developing the achievement levels descriptions to be used in setting achievement levels and reporting NAEP results in a specific subject and grade—such as for the 2014 NAEP TEL at grade 8. The policy on achievement levels (which includes the general policy definitions) can be found at http://www.nagb.org/content/nagb/assets/documents/policies/developing-student-performance.pdf.

(2) Draft achievement levels descriptions: The draft achievement levels descriptions for the 2014 NAEP TEL at the Basic, Proficient, and Advanced levels for grade 8 are as follows:

Basic: 8th grade students performing at a basic level should demonstrate an understanding that humans can develop solutions by creating and using technologies. They should be able to identify the positive and negative effects that technology can have on the natural and designed world. They should be able to use a systematic process to solve a simple problem that responsibly addresses a human need or want. Students should distinguish components in selected technological systems and recognize that technologies require maintenance. They should select common information and communications technology tools and media for specified purposes, tasks, and audiences. Students should be able to find and evaluate sources, organize and display information to address simple research tasks, give credit for use of the work of others, and use feedback from team members.

Proficient: 8th grade students performing at the proficient level should be able to use a variety of technologies and work with others using a systematic design process in which they iteratively plan, analyze, generate, and communicate solutions. They should be able to explain how technology and society influence each other by comparing the benefits and limitations of the technologies' impacts. Students should be able to analyze the interaction among components in technological systems and consider how the behavior of a single part affects the whole. They should be able to diagnose the cause of a simple technological problem. Students should be able to select and use appropriate, more advanced tools and media for a variety of purposes, tasks, and audiences. They should be able to contribute to a team and provide constructive feedback. Students should be able to find, evaluate, organize, and display information to answer research questions, solve problems, and achieve goals, giving credit for use of the work of others.

Advanced: 8th grade students performing at an advanced level should be able to use a variety of common and specialized information technologies to achieve goals, to produce and communicate solutions to complex problems, and to explain potential implications for individuals and society. 8th grade students performing at the advanced level should be able to explain the complex relationships between technologies and society and predict the effects of these relationships on society and the natural world. Given criteria and constraints, students should be able to plan, design, and use evidence to evaluate and refine multiple possible solutions to a need or problem and justify their solutions. Students should be able to explain the relationship among components in technological systems and anticipate maintenance issues, identify root causes, and repair faults. Students should be able to integrate the use of multiple tools and media, to evaluate and use information, to communicate with a range of audiences, and to accomplish complex tasks. They should be able to explain the ethical and appropriate uses of multimedia sources. Students should be able to contribute to a team by organizing, monitoring, and refining team processes.

(3) TEL Framework: In addition to the policy definitions of Basic, Proficient, and Advanced achievement, the achievement levels descriptions must represent the framework used for developing the NAEP TEL assessment. The NAEP TEL Framework can be found at http://www.nagb.org/publications/frameworks/technology/2014-technology-framework.html.

(4) Informational Webinar: Project staff and content expert panelists will be conducting an informational webinar on May 22 at 7:00 p.m. EDT. Further information about logging on to the webinar can be found at http://www.nagb.org/newsroom/press-releases/2014/announcement-tel-achievement-level.html. Materials from the webinar will be archived and made available to interested parties who are unable to participate.

(5) Focus Issues: While all comments are appreciated, project staff and content experts working on finalizing the TEL ALDs are particularly interested in addressing the following issues:

• Do the ALDs meet the policy definitions of student performance that identify in very general terms what is meant by Basic, Proficient, and Advanced achievement levels?

• Are the descriptions of what students should know and be able to do appropriate for 8th grade as specified by the TEL Framework?

• Is the progression from Basic to Proficient to Advanced appropriate for 8th grade as specified by the TEL Framework?

• Are the descriptions clear to you the reader, i.e., do they convey a picture of what students should know and be able to do at 8th grade?

Timelines: Comments may be provided via email at telaldreview@ed.gov no later than May 30, 2014. Comments may also be mailed, to be received no later than May 30, 2014, at the following address: NAEP TEL Achievement Levels Descriptions, National Assessment Governing Board, 800 North Capitol Street NW., Suite 825, Washington, DC 20002.

All responses will be taken into consideration before finalizing the NAEP TEL ALDs at grade 8 for Board adoption. Once adopted, these descriptions will be used in setting achievement levels for NAEP TEL at grade 8 and for reporting performance on NAEP relative to the achievement levels in 2014 and for all subsequent assessments until a new framework is developed for the NAEP.

Electronic Access to This Document: You may view this document, as well as all other documents of this Department published in the Federal Register, in text or Adobe Portable Document Format (PDF) on the Internet at http://www.ed.gov/news/fedregister.

To use PDF you must have Adobe Acrobat Reader, which is available free at http://get.adobe.com/reader. If you have questions about using PDF, call the U.S. Government Printing Office (GPO), toll free at 1-866-512-1800; or in the Washington, DC, area at (202) 512-0000.

Note: The official version of this document is the document published in the Federal Register. Free Internet access to the official edition of the Federal Register and the Code of Federal Regulations is available on GPO Access at: www.gpoaccess.gov/nara/index.html.

Dated: May 13, 2014.
Cornelia Orr,
Executive Director, National Assessment Governing Board (NAGB), U.S. Department of Education.

[FR Doc. 2014-11434 Filed 5-16-14; 8:45 am]

BILLING CODE 4000-01-P